DEPARTMENT OF THE INTERIOR

National Park Service

Winter Use Plan, Final Environmental Impact Statement Record of Decision, Yellowstone National Park, Idaho, Montana, and Wyoming

AGENCY: National Park Service, Interior.

ACTION: Notice of availability of a Record of Decision on the Final Environmental Impact Statement for a Winter Use Plan, Yellowstone National Park.

SUMMARY: Pursuant to Sec. 102(2)(C) of the National Environmental Policy Act of 1969, 83 Stat. 852, 853, codified as amended at 42 U.S.C. 4332(2)(C), the National Park Service announces the availability of the Record of Decision for the Winter Use Plan for Yellowstone National Park, located in Idaho, Montana, and Wyoming. On December 5, 2011, the Director, Intermountain Region, approved the Record of Decision for the plan.

The National Park Service (NPS) will implement this Decision through regulation that will take effect on December 15, 2011.

The Record of Decision selects Alternative 8 for implementation. The NPS will allow oversnow vehicle use in the park for the winter of 2011/2012 at the same levels that were allowed under the interim regulation in place for the winters of 2009/2010 and 2010/2011. Up to 318 commercially guided, best-available-technology snowmobiles and 78 commercially guided snowcoaches will be allowed in the park per day. All snowmobiles and snowcoaches will be 100% commercially guided and Sylvan Pass will remain open under the same conditions as the past two winter seasons.

The Final Environmental Impact Statement analyzed eight alternatives, including a no-action alternative. The full range of foreseeable environmental consequences was assessed, and appropriate mitigating measures were identified.

The Record of Decision includes a statement of the decision made, synopses of other alternatives considered, the basis for the decision, a description of the environmentally preferred alternative, a listing of measures to minimize environmental harm, and an overview of public involvement in the decision-making process.

FOR FURTHER INFORMATION CONTACT: Steve Iobst, Deputy Superintendent, Yellowstone National Park, (307) 344-2002.

SUPPLEMENTARY INFORMATION: Copies of the Record of Decision may be obtained from the contact listed above or online at http://parkplanning.nps.gov/yell.

Dated: December 5, 2011.
John Wessels,
Regional Director, Intermountain Region, National Park Service.

[FR Doc. 2011-31780 Filed 12-9-11; 8:45 am]

BILLING CODE 4312-CT-P